FEDERAL RETIREMENT THRIFT INVESTMENT BOARD

Sunshine Act Meeting

TIME AND DATE: 9 a.m. (EDT), May 12, 2003.

PLACE: 4th Floor, Conference Room, 1250 H Street, NW., Washington, DC.

STATUS: Parts will be open to the public and parts closed to the public.

MATTERS TO BE CONSIDERED: Parts Open to the Public

1. Approval of minutes of the April 28, 2003, Board member meeting.

2. Executive Director's report, including the following items:

a. Legislative report,

b. Investment report, and

c. Participation information.

3. Mid-year review of the Board's budget.

4. Status of new record keeping system.

Parts Closed to the Public

5. Discussion of litigation matters.

6. Discussion of personnel matters.

CONTACT PERSON FOR MORE INFORMATION: Thomas J. Trabucco, Director, Office of External Affairs, (202) 942-1640.

Elizabeth S. Woodruff,
Secretary to the Board, Federal Retirement Thrift Investment Board.

[FR Doc. 03-11056 Filed 4-30-03; 2:12 pm]

BILLING CODE 6760-01-M